DEPARTMENT OF COMMERCE

National Oceanic and Atmospheric Administration

[RTID 0648-XV189]

Space Weather Advisory Group Meeting

AGENCY: National Oceanic and Atmospheric Administration (NOAA), Commerce.

ACTION: Notice of public meeting.

SUMMARY: The Space Weather Advisory Group (SWAG) will meet for 2 and a half-days on January 18-20, 2023.

DATES: The meeting is scheduled as follows: January 18-19, 2023 from 9 a.m.-5 p.m. Eastern Standard Time (EST) and January 20, 2023 from 9 a.m.-12 p.m. EST.

ADDRESSES: The public meeting will be a hybrid event with the SWAG and invited guests convening “in person” at the Herbert C. Hoover Building, 1401 Constitution Avenue NW, Washington, DC, and any public participants attending virtually via Webinar. For details on how to connect to the webinar or to submit comments, please visit www.weather.gov/swag or contact Jennifer Meehan, National Weather Service; telephone: 301-427-9798; email: jennifer.meehan@noaa.gov.

FOR FURTHER INFORMATION CONTACT: Jennifer Meehan, National Weather Service, NOAA, 1325 East West Highway, Silver Spring, Maryland, 20910; 301-427-9798 or jennifer.meehan@noaa.gov; or visit the SWAG website: https://www.weather.gov/swag.

SUPPLEMENTARY INFORMATION: Pursuant to the Promoting Research and Observations of Space Weather to Improve the Forecasting of Tomorrow (PROSWIFT) Act, 51 U.S.C. 60601 et seq., the Administrator of NOAA and the National Science and Technology Council's Space Weather Operations, Research, and Mitigation (SWORM) Subcommittee established the Space Weather Advisory Group (SWAG) on April 21, 2021. The SWAG is the only Federal Advisory SWAG that advises and informs the interest and work of the SWORM. The SWAG is to receive advice from the academic community, the commercial space weather sector, and nongovernmental space weather end users to carry out the responsibilities of the SWAG set forth in the PROSWIFT Act, 51 U.S.C. 60601 et seq.

The SWAG is directed to advise the SWORM on the following: facilitating advances in the space weather enterprise of the United States; improving the ability of the United States to prepare for, mitigate, respond to, and recover from space weather phenomena; enabling the coordination and facilitation of research to operations and operations to research, as described in section 60604(d) of title 51, United States Code; and developing and implementing the integrated strategy under 51 U.S.C. 60601(c), including subsequent updates and reevaluations. The SWAG shall also conduct a comprehensive survey of the needs of users of space weather products to identify the space weather research, observations, forecasting, prediction, and modeling advances required to improve space weather products, as required by 51 U.S.C. 60601(d)(3).

Matters To Be Considered

The meeting will be open to the public. During the meeting, the SWAG will discuss the PROSWIFT Act, 51 U.S.C. 60601 et seq., directed duties of the SWAG including the required 51 U.S.C. 60601(d)(3) user survey, and the update to the 2019 National Space Weather Strategy and Action Plan (https://tinyurl.com/NSWSAP2019) Implementation Plan. The full agenda and meeting materials will be published on the SWAG website: https://www.weather.gov/swag.

Additional Information and Public Comments

The meeting will be held over two and a half-days and will be conducted in a hybrid manner (for meeting details see ADDRESSES). Please register for the meeting through the website: https://www.weather.gov/swag.

This event is accessible to individuals with disabilities. For all other special accommodation requests, please contact Jennifer.meehan@noaa.gov. This webinar is a NOAA public meeting and will be recorded and transcribed. If you have a public comment, you acknowledge you will be recorded and are aware you can opt out of the meeting. Participation in the meeting constitutes consent to the recording. Both the meeting minutes and presentations will be posted to the SWAG website (https://www.weather.gov/swag). The agenda, speakers and times are subject to change. For updates, please check the SWAG website (https://www.weather.gov/swag).

Public comments directed to the SWAG members and SWAG related topics are encouraged. In particular, the SWAG would like to hear from all interested parties on what the SWAG should consider advising the SWORM on in regard to the 2019 National Space Weather Strategy and Action Plan (https://tinyurl.com/NSWSAP2019) Implementation Plan update. For example, the SWAG seeks input from the public on the following:

1. In priority order, how, where, and why should the Federal Government invest limited resources to enhance research, technology, and innovation to improve observations and understanding of space weather events?

2. In priority order, what activities should the Federal Government undertake to enhance national capabilities to prepare for, recover from, adapt to, or otherwise mitigate the effects of space weather events?

3. What innovative tools, platforms, or technologies are needed by the Federal Government and space weather research and development communities to advance the transition of research to operations for models and observations of space weather phenomena? Please include any barriers to implement the identified tools, platforms, or technologies.

4. In priority order, what opportunities exist to enhance U.S. operational space weather predictions, alerts, and services, for Earth, near-Earth, and deep space applications? Please include any barriers for implementation and utilization of these capabilities.

5. Beyond regulation and grant programs, what can the Federal government do to enable and advance the private sector role for capabilities, forecasting, modeling, mitigation, research, development, and observation in the space weather domain?

6. What opportunities exist for the United States to marshal the collective resources of like-minded nations and organizations to address the global hazard of space weather?

7. Is there any additional information related to enhancing national capabilities to address space weather events, not listed above, that you believe the SWAG should consider?

The public input provided will inform the work of the SWAG as it works with the SWORM to develop the updated National Space Weather Strategy and Action Plan Implementation Plan. Individuals or groups who would like to submit recommendations to the SWAG will be given two minutes to present one slide. Please email the request to speak and the slide to jennifer.meehan@noaa.gov by January 13, 2023 to provide sufficient time for SWAG review.

For other written public comments, please email jennifer.meehan@noaa.gov by January 13, 2023. Written comments received after this date will be distributed to the SWAG but may not be reviewed prior to the meeting date. As time allows, public comments will be read into the public record during the meeting. Advance comments will be collated and posted to the meeting website.

Dated: December 16, 2022.
Michael Farrar,
Director, National Centers for Environmental Prediction, National Weather Service, National Oceanic and Atmospheric Administration.

[FR Doc. 2022-27733 Filed 12-20-22; 8:45 am]

BILLING CODE 3510-KE-P